DEPARTMENT OF THE INTERIOR

National Park Service

[NPS-WASO-NAGPRA-NPS0035186; PPWOCRADN0-PCU00RP14.R50000]

Notice of Inventory Completion: Michigan State Police, Dimondale, MI

AGENCY: National Park Service, Interior.

ACTION: Notice.

SUMMARY: In accordance with the Native American Graves Protection and Repatriation Act (NAGPRA), the Michigan State Police has completed an inventory of human remains and has determined that there is no cultural affiliation between the human remains and any Indian Tribe. The human remains were removed from Gladwin County, MI.

DATES: Disposition of the human remains in this notice may occur on or after March 1, 2023.

ADDRESSES: Hanna Friedlander, Human Remains Analyst, Michigan State Police, Intelligence Operations Division—Missing Persons Coordination Unit, 7150 Harris Drive, Dimondale, MI 48821, telephone (517) 242-5731, email friedlanderh@michigan.gov.

SUPPLEMENTARY INFORMATION: This notice is published as part of the National Park Service's administrative responsibilities under NAGPRA. The determinations in this notice are the sole responsibility of the Michigan State Police. The National Park Service is not responsible for the determinations in this notice. Additional information on the determinations in this notice, including the results of consultation, can be found in the inventory or related records held by the Michigan State Police.

Description

On July 30, 2002, human remains representing, at minimum, one individual were removed from their resting spot in Beaverton Township, MI (Gladwin County). The human remains (MPC-7-22) consist of a fragmented partial cranium that is missing the mandible, maxillae, majority of the facial bones, and teeth. Osteobiographical information determined by Dr. Todd Fenton of Michigan State University indicated the individual was Native American due to the dry bone, cortical exfoliation, adhered soil, lack of odor, and vault shape. On August 24, 2022, the human remains were located at the Michigan State Police West Branch post, which immediately requested assistance in carrying out NAGPRA responsibilities. Subsequently, Ms. Hanna Friedlander collected the human remains and transferred them to temporary holding at the Michigan State Police Headquarters in Dimondale, MI. No known individual was identified. No associated funerary objects are present.

Aboriginal Land

The human remains in this notice are not culturally identifiable. They were removed from a known geographic location that is the aboriginal land of one or more Indian Tribes. The following information was used to identify the aboriginal land: a treaty.

Determinations

Pursuant to NAGPRA and its implementing regulations, and after consultation with the appropriate Indian Tribes, the Michigan State Police has determined that:

• The human remains described in this notice represent the physical remains of one individual of Native American ancestry.

• No relationship of shared group identity can be reasonably traced between the human remains and any Indian Tribe.

• The human remains described in this notice were removed from the aboriginal land of the Bad River Band of the Lake Superior Chippewa Tribe of Chippewa Indians of the Bad River Reservation, Wisconsin; Bay Mills Indian Community, Michigan; Chippewa Cree Indians of the Rocky Boy's Reservation, Montana; Grand Traverse Band of Ottawa and Chippewa Indians, Michigan; Keweenaw Bay Indian Community, Michigan; Lac Courte Oreilles Band of Lake Superior Indians of Wisconsin; Lac du Flambeau Band of Lake Superior Chippewa Indians of the Lac du Flambeau Reservation of Wisconsin; Lac Vieux Desert Band of Lake Superior Chippewa Indians of Michigan; Minnesota Chippewa Tribe, Minnesota (Six component reservations: Bois Forte Band (Nett Lake); Fond du Lac Band; Grand Portage Band; Leech Lake Band; Mille Lacs Band; White Earth Band); Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; and the Turtle Mountain Band of Chippewa Indians of North Dakota.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after March 1, 2023. If competing requests for disposition are received, the Michigan State Police must determine the most appropriate requestor prior to disposition. Requests for joint disposition of the human remains are considered a single request and not competing requests. The Michigan State Police is responsible for sending a copy of this notice to the Indian Tribes identified in this notice.

Authority: Native American Graves Protection and Repatriation Act, 25 U.S.C. 3003, and the implementing regulations, 43 CFR 10.9 and 10.11.

Dated: January 18, 2023.
Melanie O'Brien,
Manager, National NAGPRA Program.

[FR Doc. 2023-01847 Filed 1-27-23; 8:45 am]

BILLING CODE 4312-52-P